ENVIRONMENTAL PROTECTION AGENCY

[FRL 6904-4]

Science Advisory Board; Notification of Public Advisory Committee Meeting

Pursuant to the Federal Advisory Committee Act, Public Law 92-463, notice is hereby given that The Research Strategies Advisory Committee (RSAC) of the US EPA Science Advisory Board (SAB), will meet on December 12 and 13, 2000 at the One Washington Circle Hotel located at One Washington Circle, NW, Washington, D.C. The meeting will begin by 8:30 a.m. and adjourn no later than 5:00 p.m. Eastern Standard time on both days. The meeting is open to the public, however, seating is limited and available on a first come basis.

Purpose of the Meeting—The purpose of the meeting is to discuss the FY 2002 Agency Budget Process and Schedule as a prelude to the Committee's formal review of the Science and Technology (S&T) portion of that budget in February. The Committee will be briefed on the Agency's Science Plan and Inventory, and it will consider how to conduct the second phase of its review of the implementation of EPA's Peer Review Process. The Committee will also spend part of the meeting planning its activities for the next year.

For Further Information—Any member of the public wishing further information concerning this meeting or wishing to submit brief oral comments (10 minutes or less) must contact Dr. John “Jack” R. Fowle III, Designated Federal Officer, Science Advisory Board (1400A), U.S. Environmental Protection Agency, 1200 Pennsylvania Avenue, NW, Washington, DC 20460; telephone (202) 564-4547; FAX (202) 501-0323; or via e-mail at fowle.jack@epa.gov. Requests for oral comments must be in writing (e-mail, fax or mail) and received by Dr. Fowle no later than noon Eastern Standard Time on December 7, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the DFO at least five business days prior to the meeting so that appropriate arrangements can be made.

Dated: November 9, 2000.
Donald G. Barnes,
Staff Director, Science Advisory Board.

[FR Doc. 00-29644 Filed 11-17-00; 8:45 am]

BILLING CODE 6560-50-P